DEPARTMENT OF THE TREASURY

Internal Revenue Service

26 CFR Part 1

[REG-106186-98]

RIN 1545-AW36

Withdrawal of Proposed Regulations Relating to Certain Corporate Reorganizations Involving Disregarded Entities; Correction

AGENCY: Internal Revenue Service (IRS), Treasury.

ACTION: Correction to withdrawal of notice of proposed rulemaking.

SUMMARY: This document contains a correction to notice of proposed rulemaking (REG-106186-98) which was published in the Federal Register on Thursday, November 15, 2001 (66 FR 57400). This regulation relates to the withdrawal of proposed regulations relating to certain corporate reorganizations involving disregarded entities.

DATES: This correction applies as of November 15, 2001.

FOR FURTHER INFORMATION CONTACT: Reginald Mombrun, (202) 622-7750 (not a toll-free number).

SUPPLEMENTARY INFORMATION:

Background

The proposed regulations relating to certain corporate reorganizations involving disregarded entities that are the subject of this correction is under 26 U.S.C. 7805 of the Internal Revenue Code.

Need for Correction

As published, proposed regulations (REG-106186-00) contain an error which may prove to be misleading and is in need of clarification.

Correction of Publication

Accordingly, the publication of proposed regulation (REG-106186-00), which is the subject of FR Doc. 01-28671, is corrected as follows:

On page 57400, column 1, in the heading, the language “(REG-106186-00)” is corrected to read “(REG-106186-98)”.

LaNita VanDyke,
Acting Chief, Regulations Unit, Associate Chief Counsel (Income Tax and Accounting).

[FR Doc. 01-30831 Filed 12-12-01; 8:45 am]

BILLING CODE 4830-01-P